DEPARTMENT OF THE INTERIOR

National Park Service

[NPS-NERO-CEBE-23521; PPNECEBE00, PPMPSAS1Z.Y00000]

Cedar Creek and Belle Grove National Historical Park Advisory Commission; Postpostment of Meeting

AGENCY: National Park Service, Interior.

ACTION: Notice.

SUMMARY: The June 2017 Cedar Creek and Belle Grove National Historical Park Advisory Commission meeting has been postponed.

DATES: The meeting was scheduled for June 15, 2017, in Front Royal, Virginia, and will be reschuelded at a later date. We will publish a future notice with new meeting date and location.

FOR FURTHER INFORMATION CONTACT: Further information concerning the meetings may be obtained from Karen Beck-Herzog, Site Manager, Cedar Creek and Belle Grove National Historical Park, P.O. Box 700, Middletown, Virginia 22645, telephone (540) 868-9176, or visit the park Web site: http://www.nps.gov/cebe/parkmgmt/park-advisory-commission.htm.

SUPPLEMENTARY INFORMATION: The 15-member Commission was designated by Congress to provide advice to the Secretary of the Interior in the preparation and implementation of the park's general management plan and in the identification of sites of significance outside the park boundary.

Additional information is available in the meeting notice published on January 19, 2017 (82 FR 6643).

Authority: 16 U.S.C 410iii-7; 5 U.S.C. Appendix 1-16.

Alma Ripps,
Chief, Office of Policy.

[FR Doc. 2017-16095 Filed 7-31-17; 8:45 am]

BILLING CODE 4312-52-P